DEPARTMENT OF TRANSPORTATION

Transportation Security Administration

Reports, Forms, and Record Keeping Requirements Agency Information Collection Activity Under OMB Review

AGENCY: Transportation Security Administration (TSA), DOT.

ACTION: Emergency Federal Register notice.

SUMMARY: The U.S. Department of Transportation, Transportation Security Administration, has submitted the following request for emergency-processing of a public information collection to the Office of Management and Budget (OMB) for review and clearance under the Paperwork Reduction Act of 1995 (Pub. L. 104-13, 44 U.S.C. 35). This notice announces that the Information Collection Request (ICR) abstracted below has been forwarded to OMB for review and comment. The ICR describes the nature of information collections and their expected burden.

DATES: Submit comments on or before October 28, 2002.

Comments: You may send comments to Office of Information and Regulatory Affairs, Office of Management and Budget, 725 17th Street, NW., Washington, DC 20503, Attention: DOT-TSA Desk Officer

FOR FURTHER INFORMATION CONTACT: Orelious Walker, TSA, 400 7th Street, SW., Washington, DC 20590, (202) 441-7394.

SUPPLEMENTARY INFORMATION:

Transportation Security Administration

Title: Aviation Security Customer Satisfaction Intercept Survey Pilot Test.

OMB Control Number: [Not yet assigned].

Frequency: One-time study consisting of two data collections at each of three locations.

Affected Public: Passengers on commercial airlines who pass through the passenger screening checkpoint at an airport with federalized security operations.

Abstract: As part of the Transportation Security Administration's effort to become a performance-based, constituent-centric organization, it has committed to being attentive and responsive to the experiences of its customers. In support of this goal, TSA plans to conduct surveys at airports to ascertain passenger experiences though the airport security checkpoint. The data collection will consist of an intercept survey in which passengers passing through passenger screening checkpoints will be handed postcard-sized surveys and asked to complete them and return them to TSA by mail. TSA proposes to conduct a pilot test of this methodology over two, two-week periods at each of three airports in the United States.

The proposed pilot survey will be administered in November and December 2002. The survey will be administered by providing survey forms to a random sample of 10% of the passengers who pass through an airport security checkpoint during randomly selected time intervals during the data collection period. Respondents will return the completed survey forms by mail. The return address and postage will be pre-printed on the form.

Participation by respondents is voluntary. The survey is expected to average approximately 5 minutes to complete. All respondents' results will remain anonymous and completely confidential. Participant names are not collected during the interview.

Findings from the survey will be used to evaluate and improve aviation security operations at the passenger checkpoint. The pilot test is designed to serve principally as a test of the methodology for feasibility nationwide.

Estimated burden: 375 hours.

Number of respondents: 3,750.

Issued in Washington, DC on September 19, 2002.
Lana Tannozzini,
Director of Office of Strategic , Management & Analysis.

[FR Doc. 02-24446 Filed 9-25-02; 8:45 am]

BILLING CODE 4110-62-P